NUCLEAR REGULATORY COMMISSION

[Docket No. 040-08778]

Notice of Consideration of Amendment Request for Molycorp, Washington, PA, Site and Opportunity for a Hearing

The U.S. Nuclear Regulatory Commission (NRC) is considering issuance of a license amendment to Source Materials License SMB-1393 issued to Molycorp, Inc., (Molycorp), to allow for an alternate decommissioning schedule for its Washington, PA, site. Molycorp's license currently requires Molycorp to decommission by August 2002, which is within 2 years of the date that the decommissioning plan was approved. Molycorp has found that a number of buildings overlie contaminated areas which affects the determination of the volume of contaminated material and, therefore, the time it will take to clean up the site. Molycorp, Inc. proposes to decommission under an alternate decommissioning schedule using a phased approach. The buildings on-site will be demolished and the soils will be characterized to determine an estimated volume of contaminated material. Molycorp, Inc. will excavate the contaminated soils and transport them off-site to an NRC approved facility. Molycorp's proposed alternate decommissioning schedule shows that all decommissioning activities will be completed by the end of 2004. Molycorp's request is contained in a letter to NRC dated February 19, 2002.

If the NRC approves this request, the approval will be documented in a license amendment to NRC License SMB-1393. However, before approving the proposed amendment, the NRC will need to make the findings required by the Atomic Energy Act of 1954, as amended, and NRC's regulations. These findings will be documented in a safety evaluation report and an environmental assessment.

NRC hereby provides notice that this is a proceeding on an application for an amendment of a license falling within the scope of Subpart L, “Informal Hearing Procedures for Adjudication in Materials Licensing Proceedings,” of NRC's rules of practice for domestic licensing proceedings in 10 CFR part 2. Pursuant to § 2.1205(a), any person whose interest may be affected by this proceeding may file a request for a hearing in accordance with § 2.1205(d). A request for a hearing must be filed within thirty (30) days of the date of publication of this Federal Register notice.

The request for a hearing must be filed with the Office of the Secretary either by hand delivery to: Rulemaking and Adjudications Staff of the Office of the Secretary U.S. Nuclear Regulatory Commission at the White Flint North, 11555 Rockville Pike, Rockville, MD 20852, facsimile (301-415-1101) or mailing to: The Secretary, U.S. Nuclear Regulatory Commission, Washington, DC 20555-0001. Because of continuing disruptions in delivery of mail to U.S. government offices, it is requested that copies of requests for hearings or petitions for leave to intervene be transmitted by facsimile, as noted above, or by e-mail to hearingdocket@nrc.gov. In accordance with 10 CFR 2.1205(f), each request for a hearing must also be served, by delivering it personally, or by mail, to:

1. The applicant, Molycorp, Inc., 300 Caldwell Avenue, Washington, PA 15301, Attention: George Dawes, and,

2. The NRC staff, addressed to the General Counsel, U.S. Nuclear Regulatory Commission, One White Flint North, 11555 Rockville Pike, Rockville, MD 20852, or by mail addressed to the General Council, U.S. Nuclear Regulatory Commission, Washington, DC 20555-0001. Because of continuing disruptions in delivery of mail to United States government offices, it is requested that copies be transmitted either by means of facsimile transmission to 301-415-3725, or by e-mail to the OGCmailcenter@nrc.gov.

In addition to meeting other applicable requirements of 10 CFR part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and,

4. The circumstance establishing that the request for a hearing is timely in accordance with § 2.1205(d).

FOR FURTHER INFORMATION CONTACT: The application for the license amendment and supporting documentation are available for inspection at NRC's Public Electronic Reading Room at http://www.nrc.gov/NRC/ADAMS/index.html. Any questions with respect to this action should be referred to Tom McLaughlin, Decommissioning Branch, Division of Waste Management, Office of Nuclear Material Safety and Safeguards, U.S. Nuclear Regulatory Commission, Washington, DC 20555-0001.

Telephone: (301) 415-5869. Fax: (301) 415-5398.

Dated at Rockville, Maryland, this 23rd day of April 2002.
For the Nuclear Regulatory Commission.
Tom McLaughlin,
Project Manager, Facilities Decommissioning Section, Decommissioning Branch, Division of Waste Management, Office of Nuclear Material Safety and Safeguards.

[FR Doc. 02-10694 Filed 4-30-02; 8:45 am]

BILLING CODE 7590-01-P